DEPARTMENT OF COMMERCE

National Oceanic and Atmospheric Administration

RIN 0648-XH067

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Atlantic Mackerel, Squid, and Butterfish (MSB) Monitoring Committee will meet via webinar to develop recommendations for 2020 MSB specifications, focusing on the river herring and shad cap for the mackerel fishery.

DATES: The meeting will be held on Tuesday, July 9, 2019, from 9 a.m. to 12 p.m.

ADDRESSES: The meeting will be held via webinar with an audio-only connection option. Details on the proposed agenda, connection information, and briefing materials will be posted at the MAFMC's website: www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Council's MSB Monitoring Committee will meet via webinar to develop recommendations for 2020 MSB specifications, focusing on the river herring and shad cap for the mackerel fishery. Those recommendations will be considered by the Council at separately-noticed future meetings.

Special Accommodations

The meeting is physically accessible to people with disabilities. Requests for sign language interpretation or other auxiliary aid should be directed to M. Jan Saunders, (302) 526-5251, at least 5 days prior to any meeting date.

Authority: 16 U.S.C. 1801 et seq.

Dated: June 20, 2019.
Tracey L. Thompson,
Acting Deputy Director, Office of Sustainable Fisheries, National Marine Fisheries Service.

[FR Doc. 2019-13446 Filed 6-24-19; 8:45 am]

BILLING CODE 3510-22-P